DEPARTMENT OF LABOR

Employment and Training Administration

[TA-W-83,058]

Sysco Denver LLC, a Subsidiary of Sysco Corporation, IT Department, Denver, Colorado; Notice of Affirmative Determination Regarding Application for Reconsideration

By application dated October 1, 2013, a worker requested administrative reconsideration of the negative determination regarding workers' eligibility to apply for Trade Adjustment Assistance (TAA) applicable to workers and former workers of Sysco Denver LLC., a subsidiary of Sysco Corporation, IT Department, Denver, Colorado (subject firm). The negative determination was issued on September 17, 2013 and the Department's Notice of determination was published in the Federal Register on October 24, 2013 (78 FR 63498). Workers at the subject firm were engaged in activities related to the supply of information technology (IT) services.

The negative determination was based on the Department's findings that, with respect to Section 222(a) and Section 222(b) of the Act, Criterion (1) has not been met because a significant number or proportion of the workers in such workers' firm, have not become totally or partially separated, or threatened with such separation.

In addition, the group eligibility requirements under Section 222(e) of the Act have not been satisfied because the workers' firm has not been publicly identified by name by the International Trade Commission as a member of a domestic industry in an investigation resulting in an affirmative finding of serious injury, market disruption, or material injury, or threat thereof.

The request for reconsideration alleges that the two workers at the subject firm location were part of a larger worker group (those supplying IT services at various Sysco Corporation facilities) and that IT functions are being outsourced to India.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 27th day of November, 2013.
Del Min Amy Chen,
Certifying Officer, Office of Trade Adjustment Assistance.

[FR Doc. 2013-29357 Filed 12-9-13; 8:45 am]

BILLING CODE 4510-FN-P